DEPARTMENT OF THE INTERIOR

Bureau of Land Management

[CO-935-1430-ET; COC-28585; COC-28650; COC-0123825]

Public Land Order No. 7507; Partial Revocation of Waterpower Withdrawals and Opening of Public Lands Under Section 24 of the Federal Power Act; Colorado

AGENCY: Bureau of Land Management, Interior.

ACTION: Public land order.

SUMMARY: This order revokes an Executive Order and a Secretarial Order insofar as they affect 439.24 acres of public lands withdrawn for two Bureau of Land Management waterpower withdrawals. This action will open the lands to surface entry. These lands have been open to mineral leasing, and, under the provisions of the Mining Claims Rights Restoration Act of 1955, to mining. These provisions are no longer required. This order opens 412.40 acres of public lands to disposal, subject to section 24 of the Federal Power Act. This order also opens 42.62 acres of lands withdrawn by Power Project 2035, subject to section 24 of the Federal Power Act to allow for disposal to the Power Project licensee. This action will allow for consummation of pending land disposals.

EFFECTIVE DATE: April 15, 2002.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by section 204 of the Federal Land Policy and Management Act of 1976, 43 U.S.C. 1714 (1994), and pursuant to the determination by the Federal Energy Regulatory Commission in DVCO-557-000, it is ordered as follows:

1(a). Executive Order dated July 2, 1910, which established Powersite Reserve No. 78, and Secretarial Order dated October 31, 1944, which established Powersite Classification No. 372, are hereby revoked insofar as they affect the following described public lands:

Sixth Principal Meridian

T. 1 S., R. 71 W., Tracts 53, 56, 57, 58, 59, 60, 61, 65, 139, 148, and 150.

The areas described aggregate 439.24 acres in Boulder County.

(b). At 9 a.m. on April 15, 2002, the lands described in paragraph 1(a), will be opened to operation of the public land laws generally subject to valid existing rights, the provisions of existing withdrawals, and the requirements of applicable law. All valid applications received on or prior to 9 a.m on April 15, 2002, shall be considered as simultaneously filed at that time. Those received thereafter shall be considered in the order of filing.

(c). The lands described in paragraph 1(a) have been open to mining under the provisions of the Mining Claims Rights Restoration Act of 1955, 30 U.S.C. 621 (1994), and these provisions are no longer required.

2. By virtue of the authority vested in the Secretary of the Interior by the Act of June 10, 1920, section 24, as amended, 16 U.S.C. 818 (1994), and pursuant to the determination by the Federal Energy Regulatory Commission in DVCO-557-000, it is ordered as follows:

(a) At 9 a.m. on April 15, 2002, the following described public lands withdrawn by Executive Order dated July 2, 1910, which established Powersite Reserve No. 78, and Secretarial Order dated October 31, 1944, which established Power Site Classification No. 372, will be opened to disposal, subject to the provisions of section 24 of the Federal Power Act. The opening is subject to valid existing rights, the provisions of existing withdrawals, other segregations of record, and the requirements of applicable law:

Sixth Principal Meridian

T. 1 S., R. 71 W., Tracts 54, 127, 142, 143, 144, 145, 146, 147, 149, and 154.

The area described contains 412.40 acres of public lands in Boulder County.

(b). At 9 a.m. on April 15, 2002, Tract 49, T. 1 S., R.71 W., Sixth Principal Meridian, in Power Project No. 2035 is hereby open to disposal to the Power Project licensee only. The Commission imposed annual charges shall continue and any use not authorized by the License is prohibited without the consent of the Federal Energy Regulatory Commission. This parcel contains 42.62 acres in Boulder County.

3. The State of Colorado, with respect to the lands described in paragraph 1(a) and 2(a), has a preference right for public highway rights-of-way or material sites until April 15, 2002 and any location, entry, selection, or subsequent patent shall be subject to any rights granted the State as provided by the Act of June 10, 1920, section 24, as amended, 16 U.S.C. 818 (1994).

Dated: December 13, 2001.
J. Steven Griles,
Deputy Secretary.

[FR Doc. 02-979 Filed 1-14-02; 8:45 am]

BILLING CODE 4310-JB-P